GENERAL SERVICES ADMINISTRATION

Office of Communications; Cancellation of a Standard Form

AGENCY: General Services Administration.

ACTION: Notice.

SUMMARY: The Office of Personnel Management has cancelled the following Standard form because of low use:

SF 182 (2-part snapout version) (identified by NSN 7540-01-008-3899). The 5-part snapout version identified by (NSN 7540-01-008-3900) and the 10-part snapout version (identified by NSN 7540-01-008-3901) version of this form are still available from FSS.

FOR FURTHER INFORMATION CONTACT: General Services Administration, Forms Management, (202) 501-0581.

DATES: Effective May 3, 2000.

Dated: April 25, 2000.
Barbara M. Williams,
Deputy Standard and Optional Forms Management Officer.

[FR Doc. 00-10982 Filed 5-2-00; 8:45 am]

BILLING CODE 6820-34-M